ENVIRONMENTAL PROTECTION AGENCY

[EPA-OAR-2011-0371; FRL—10023-35-OMS]

Information Collection Request Submitted to OMB for Review and Approval; Comment Request; National Volatile Organic Compound Emission Standards for Architectural Coatings (Renewal)

AGENCY: Environmental Protection Agency (EPA).

ACTION: Notice.

SUMMARY: The Environmental Protection Agency (EPA) has submitted an Information Collection Request (ICR), National Volatile Organic Compound Emission Standards for Architectural Coatings (EPA ICR Number 1750.09, OMB Control Number 2060-0393) to the Office of Management and Budget (OMB) for review and approval in accordance with the Paperwork Reduction Act (PRA). This is a proposed extension of the ICR, which is currently approved through June 30, 2021. Public comments were previously requested via the Federal Register on September 16, 2020, during a 60-day comment period. This document allows for an additional 30 days for public comments. A fuller description of the ICR is given below, including its estimated burden and cost to the public. An agency may not conduct or sponsor and a person is not required to respond to a collection of information unless it displays a currently valid OMB control number.

DATES: Additional comments may be submitted on or before June 1, 2021.

ADDRESSES: Submit your comments to EPA, referencing Docket ID No. EPA-OAR-2011-0371, online using www.regulations.gov (our preferred method), by email to a-and-r-docket@epa,gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: J. Kaye Whitfield, Sector Policies and Programs Division, Office of Air Quality Planning and Standards (D243-04), Research Triangle Park, North Carolina 27711, telephone number: 919-541-2509; fax number: 919-541-4991; email address: whitfield.kaye@epa.gov.

SUPPLEMENTARY INFORMATION: Supporting documents, which explain in detail the information that the EPA will be collecting, are available in the public docket for this ICR. The docket can be viewed online at https://www.regulations.gov/. The docket can be viewed online at http://www.regulations.gov, or in person at the EPA Docket Center, WJC West, Room 3334, 1301 Constitution Ave. NW, Washington, DC. The telephone number for the Docket Center is (202) 566-1744. For additional information about EPA's public docket, visit http://www.epa.gov/dockets.

Abstract: The EPA is required under section 183(e) of the Clean Air Act (CAA) to regulate volatile organic compound (VOC) emissions from the use of consumer and commercial products. Pursuant to CAA section 183(e)(3), the EPA published a list of consumer and commercial products and a schedule for their regulation (60 FR 15264). Architectural and industrial maintenance coatings are included on the list, and the standards for such coatings are codified at 40 CFR part 59, subpart D which specifies that manufacturers and importers of architectural coatings adhere to volatile organic compound (VOC) content limits in the regulation. Information collection requirements for manufacturers and importers complying with the VOC content limits consist of product labeling; an initial notification report, which includes an explanation of any date code used; and subsequent explanations of any date codes revised after submittal of the initial report. The regulation does not contain any additional reporting or recordkeeping requirements unless a manufacturer or importer chooses to comply through one of the optional provisions in lieu of meeting the VOC content limits (i.e., the tonnage exemption, exceedance fee, or recycled coating credit provisions).

Form numbers: None.

Respondents/affected entities: Respondents are manufacturers, distributors, and importers of architectural coatings.

Respondent's obligation to respond: Mandatory under 40 CFR part 59, subpart D—National Volatile Organic Compound Emission Standards for Architectural Coatings.

Estimated number of respondents: 500 (total).

Frequency of response: On occasion.

Total estimated burden: 14,661 hours (per year). Burden is defined at 5 CFR 1320.03(b).

Total estimated cost: $1,481,441 (per year). There are no annualized capital or operation and maintenance costs.

Changes in the estimates: Labor rates have been updated using 2019 values, leading to an increase in the total estimated respondent cost burden compared with the ICR currently approved by OMB.

Courtney Kerwin,
Director, Regulatory Support Division.

[FR Doc. 2021-09017 Filed 4-29-21; 8:45 am]

BILLING CODE 6560-50-P